DEPARTMENT OF HOMELAND SECURITY

Transportation Security Administration

49 CFR Parts 1515, 1520, 1522, 1540, 1542, 1544, and 1550

[Docket No. TSA-2008-0021]

RIN 1652-AA53

Large Aircraft Security Program, Other Aircraft Operator Security Program, and Airport Operator Security Program; Withdrawal

AGENCY: Transportation Security Administration, DHS.

ACTION: Notice of proposed rulemaking; withdrawal.

SUMMARY: The Transportation Security Administration (TSA) is withdrawing its rulemaking concerning the proposed establishment of a large aircraft security program (LASP). TSA published a notice of proposed rulemaking (NPRM) for LASP on October 30, 2008. In the NPRM, TSA proposed that certain private and corporate aircraft operations should adopt security standards similar to those of commercial aircraft operations, including the use of security programs, crew vetting, and passenger watchlist matching. The NPRM also proposed new requirements for airports that serve the private and corporate operations. TSA held a series of public meetings and reviewed more than 7,000 public comments submitted in response to the NPRM. Based on all of the information received and a re-evaluation of the proposal in light of risk-based principles, TSA has decided not to pursue this rulemaking at this time.

DATES: TSA is withdrawing the proposed rule published in Part III of the Federal Register on October 30, 2008 (73 FR 64789) as of March 16, 2018.

FOR FURTHER INFORMATION CONTACT: Alan Paterno, Office of Security Policy and Engagement, TSA-28, Transportation Security Administration, 601 South 12th Street, Arlington, VA 20598-6028; telephone (571) 227-5698; facsimile (571) 227-2928; email alan.paterno@tsa.dhs.gov.

SUPPLEMENTARY INFORMATION:

I. Overview of the NPRM

TSA administers an extensive range of regulatory programs that address security for scheduled and charter commercial aviation operations. See 49 CFR parts 1544, 1546, 1548, 1550, 1560, and 1562. In the LASP NPRM, TSA proposed to apply many of the current commercial requirements to private and corporate operations in aircraft with a certificated maximum take-off weight (MTOW) above 12,500 pounds (large aircraft) and airports that serve those aircraft.

TSA proposed to require—

• (1) Non-commercial, large aircraft operators to adopt a security program like the security programs that commercial aviation services must implement;

• (2) Large aircraft operators to contract with TSA-approved auditors to conduct audits of the operators' compliance with their security programs, and with TSA-approved watch-list service providers to verify that their passengers are not on the No Fly and/or Selectee portions of the consolidated terrorist watch-lists maintained by the Federal Government;

• (3) Security measures for large aircraft operators in all-cargo operations and for operators of passenger aircraft with a MTOW of over 45,500 kilograms (100,309.3 pounds), operated for compensation or hire; and

• (4) Certain airports that serve large aircraft to adopt new security programs.

TSA believed the proposed rule would yield benefits in the areas of transportation security and accountability. TSA included a “break-even” analysis that showed the tradeoffs between program cost and program benefits that would be required for the LASP to be a cost-beneficial undertaking. TSA estimated that under the NPRM, covered aircraft operators, airport operators, passengers, and TSA would incur approximately $1.4 billion in costs over 10 years to comply with the proposed LASP, discounted at 7 percent in 2006 dollars.

TSA received more than 7,000 comments from pilots, aircraft operators, airports, aviation workers, individuals, members of congress, aviation associations, and civic organizations. TSA also held numerous public meetings to solicit stakeholder input on the NPRM. Many supported some aspects of the LASP NPRM, but the overwhelming majority of commenters objected to it based on their views that it increased costs unnecessarily, created burdensome new processes, and would lead small airport and aircraft operators to go out of business causing widespread loss of employment. These commenters also asserted that there was no need for the LASP NPRM, as evidenced in part by the fact that there was no specific statutory mandate for it.

TSA analyzed the comments carefully and considered issuing a supplemental notice of proposed rulemaking (SNPRM) to incorporate some of the ideas from the commenters into a new proposal. As part of this evaluation, TSA considered separating out some of the requirements into stand-alone rules, because the LASP NPRM covered several different kinds of airport and aircraft operations. Also, TSA considered changing the scope of the large aircraft that would be subject to the new regulations.

II. The Withdrawal

Based on all of the foregoing information and consistent with risk-based principles, TSA has decided to withdraw the LASP rulemaking at this time. In reaching this decision, TSA considered the relative costs and benefits of the NPRM identified through the agency's preliminary analysis. Moreover, TSA has several regulatory initiatives underway that are required by statute and have deadlines.

As part of TSA's ongoing review of existing regulatory programs and to reduce the costs of regulations,¹ TSA evaluated this withdrawal based on the requirements of E.O. 13771. The withdrawal of the NPRM qualifies as a deregulatory action under E.O. 13771. See OMB's Memorandum titled “Guidance Implementing Executive Order 13771, Titled `Reducing Regulation and Controlling Regulatory Costs' ” (April 5, 2017). However, there are no quantifiable cost savings associated with the withdrawal of this NPRM.

¹ E.O. 13771 (Jan. 30, 2017), Reducing Regulation and Controlling Regulatory Costs, directs that, unless prohibited by law, whenever an executive department or agency publicly proposes for notice and comment or otherwise promulgates a new regulation, it must repeal two or more existing regulations. Also, any new incremental costs associated with new regulations must, to the extent permitted by law, be offset by the elimination of existing costs. Only rules that are significant under section 3(f) of E.O. 12866 (Sept. 30, 1993), Regulatory Planning and Review, are subject to these requirements.

Dated: March 12, 2018.
David P. Pekoske,
Administrator.

[FR Doc. 2018-05401 Filed 3-15-18; 8:45 am]

BILLING CODE 9110-05-P